DEPARTMENT OF HEALTH AND HUMAN SERVICES

Centers for Disease Control and Prevention

[60Day-FY-2022; Docket No. CDC-2022-0082]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Requirement for Proof of COVID-19 Vaccination for Noncitizen, Nonimmigrant Air Passengers Arriving into the United States from a Foreign Country. A Revision for this collection is being submitted to ensure that, consistent with the terms of the April 4, 2022 Amended Order Under the Presidential Proclamation titled Advancing Safe Resumption of Global Travel During the COVID-19 Pandemic and CDC's Order Implementing Proclamation on Advancing Safe Resumption of Global Travel During the COVID-19 Pandemic, public health authorities can confirm that non-U.S Citizen, Non-U.S. Immigrant passengers are fully vaccinated against COVID-19 before boarding a plane to the United States.

DATES: CDC must receive written comments on or before September 6, 2022.

ADDRESSES: You may submit comments, identified by Docket No. CDC-2022-0082 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Requirement for Proof of COVID-19 Vaccination for Noncitizen, Nonimmigrant Air Passengers Arriving into the United States from a Foreign Country—Revision—National Center for Emerging and Zoonotic Infectious Diseases (NCEZID), Centers for Disease Control and Prevention (CDC).

Background and Brief Description

Since January 2020, the respiratory disease known as “COVID-19,” caused by a novel coronavirus (SARS-CoV-2), has spread globally, including cases reported in all 50 states within the United States, plus the District of Columbia and all U.S. territories. As of June 4, 2022, there have been over 529,400,000 cases of COVID-19 globally, resulting in over 6,200,000 deaths. In the United States, more than 84,600,000 cases have been identified, and over 1,000,000 deaths have been attributed to the disease.

On October 25, 2021, President Biden issued a Proclamation “Advancing Safe Resumption of Global Travel During the COVID-19 Pandemic”. This Proclamation allowed CDC to issue an Order Implementing Proclamation on Advancing Safe Resumption of Global Travel During the COVID-19 Pandemic, and amended the Order twice, most recently on April 4, 2022 (“Amended Vaccination Order”) to align with revised CDC guidance related to isolation and quarantine after travel and to clarify other requirements.

The Proclamation and Amended Vaccination Order only apply to noncitizen, nonimmigrants. It does not apply to U.S. citizens, U.S. nationals, lawful permanent residents (LPR), or immigrants. The Proclamation also does not apply to crew members of airlines or other aircraft operators while they are on official duty status and if they follow industry standard protocols for the prevention of COVID-19. Some noncitizen, nonimmigrants who are not fully vaccinated, as defined by the Amended Vaccination Order, may fall into a category that allows them to be excepted to the requirement if they can present to an airline or aircraft operator that they meet the criteria for that category, such as letters documenting a medical contraindication to receiving a COVID-19 vaccine, documents confirming participation in certain vaccine clinical trials, or U.S. military identification.

Noncitizen, nonimmigrants who are fully vaccinated will have to attest that they are fully vaccinated. Noncitizen, nonimmigrants who are not fully vaccinated and qualify for an exception will be required to attest that they are excepted from the requirement to present proof of being fully vaccinated and based on the category of the exception, may further be required to attest to other activities.

CDC anticipates certain cost burdens to respondents and record keepers due to the requirements. CDC requests OMB approval for an estimated 68,045,825 annual burden hours. This is a decrease from the previously approved version of this information collection.

Estimated Annualized Burden Hours

Type of respondent | Form name | Number of respondents | Number of responses per respondent | Average burden per response (in hours) | Total burden (in hours)
Noncitizen Nonimmigrant Air Passenger | Section 2 of Combined Passenger Disclosure and Attestation to the United States of America | 60,000,000 | 1 | 1 | 60,000,000
Airline Desk Agent | Combined Passenger Disclosure and Attestation to the United States of America | 60,000,000 | 1 | 8/60 | 16,400,000
Noncitizen Nonimmigrant Air Passenger | Request Humanitarian or Emergency Exception to Proof of Vaccination Requirement—(No form) | 3,400 | 1 | 2 | 6,800
Air Passenger (undergoing compliance check) | Questions Asked to Air Passengers Going Through Compliance Checks (No form) | 270,000 | 1 | 5/60 | 22,500
Air Passenger (undergoing compliance check with non-compliant documentation) | Air Travel Illness or Death Investigation or Traveler Follow-up Form | 1,620 | 1 | 10/60 | 270
Noncitizen Nonimmigrant Air Passenger (undergoing compliance check and using humanitarian or emergency exception) | Air Travel Illness or Death Investigation or Traveler Follow-up Form | 30 | 1 | 10/60 | 5
Air Traveler (for illness or death investigation) | Air Travel Illness or Death Investigation or Traveler Follow-up Form | 65,000 | 1 | 15/60 | 16,250
Total |  |  |  |  | 68,045,825

Jeffrey M. Zirger,
Lead, Information Collection Review Office, Office of Scientific Integrity, Office of Science, Centers for Disease Control and Prevention.

[FR Doc. 2022-14213 Filed 7-1-22; 8:45 am]

BILLING CODE 4163-18-P